DEPARTMENT OF LABOR

Employment and Training Administration

Senior Community Service Employment Program; Notice of Town Hall Meetings on the 2000 Amendments to the Older Americans Act

AGENCY: Employment and Training Administration, Labor.

ACTION: Notice of Town Hall Meetings.

SUMMARY: The Department of Labor is giving notice of two in a series of Town Hall Meetings to provide interested individuals an opportunity to comment on the Department of Labor's approach to the implementation of changes to the Senior Community Service Employment Program (SCSEP), which were occasioned by the Older Americans Act Amendments of 2000 (OAA)(Pub.L. 106-50)(Nov. 13, 2000). We will hold Town Hall Meetings in various locations throughout the country, in order to facilitate the participation of all interested individuals. The first Town Hall Meeting was held on Monday, January 22, 2001, from 7 p.m. to 9 p.m. at the Westin Peachtree Plaza Hotel at 210 Peachtree Street NW., Atlanta, Georgia in conjunction with the National Older Worker Conference sponsored by the National Association of State Units on Aging.

DATES: The Town Hall Meetings being announced in this Notice will be held on Tuesday, February 27, 2001, from 11:30 a.m. to 1:30 p.m., in Washington, D.C., and on Wednesday, March 7, 2001, from 2 p.m. to 4 p.m., in New Orleans, Louisiana. The dates, locations and times for subsequent Town Hall Meetings will be announced in advance in the Federal Register.

ADDRESSES: The February 27, 2001, Town Hall Meeting will be held in Congressional Hall B at the Ramada Renaissance Hotel at 999 Ninth Street NW., Washington, DC, in conjunction with the National Association of Workforce Boards, Forum 2001.

The March 7, 2001, Town Hall Meeting will be held in the Burgundy A Room at the Hyatt Regency New Orleans Hotel at 500 Poydras Plaza, New Orleans, Louisiana, in conjunction with the National Council on the Aging Workforce Development Conference.

FOR FURTHER INFORMATION CONTACT: Mr. Erich W. (“Ric”) Larisch, Division of Older Worker Programs, U.S. Department of Labor, 200 Constitution Avenue NW., Room N4644, Washington, DC 20210, Telephone: (202) 693-3742 (voice) TTY (202) 693-2871 (these are not toll-free numbers).

SUPPLEMENTARY INFORMATION: The purpose of the Town Hall Meetings is to provide each interested individual with an opportunity to comment on the Department of Labor's approach to the implementation of changes to the SCSEP occasioned by the revisions to title V of the Older Americans Act Amendments of 2000 (OAA) (Pub. L. 106-501) (dated November 13, 2000). Each attendee is welcome to offer comments on a variety of subjects, including: (1) Issues and concerns that should be addressed in regulations; (2) issues and concerns that should be addressed in policy guidance; (3) suggestions and comments on the overall implementation plan, such as consultation strategies; (4) specific suggestions on the approach that should be taken in implementing any or all of the new title V provisions; and (5) suggestions on revisions that should be made to the existing title V regulations, which were published in the Federal Register on Wednesday, May 17, 1995 (20 CFR part 641).

Public Participation

All interested parties are invited to attend the Town Hall Meetings. Persons wishing to make statements or presentations at the Town Hall Meetings should limit oral statements to 5 minutes, but extended written statements may be submitted for the record within 30 days after the Town Hall meeting date. Written statements may also be submitted without presenting oral statements. Individuals may submit written comments to the Employment and Training Administration, Division of Older Worker Programs, 200 Constitution Avenue NW., Room N4644, Washington, DC 20210, Attention: Mr. Erich W. (“Ric”) Larisch.

Minutes of all Town Hall Meetings and summaries of other documents will be available to the public on the SCSEP website http://www.wdsc.org/owprog. Any written comments on the minutes should be directed to Mr. Erich W. (“Ric”) Larisch, as shown above.

Individuals with disabilities who are planning to attend one of the Town Hall Meetings should contact Ms. Karen Davis of the Department of Labor, Employment and Training Administration, Division of Older Worker Programs at (202) 693-3761 (this is not a toll-free number), if special accommodations are needed.

Signed at Washington DC, this 13th day of February, 2001.
Raymond J. Uhalde,
Deputy Assistant Secretary of Labor.

[FR Doc. 01-4157 Filed 2-16-01; 8:45 am]

BILLING CODE 4510-30-U